DEPARTMENT OF COMMERCE

Office of the Secretary

Estimates of the Voting Age Population for 2018

AGENCY: Office of the Secretary, Commerce.

ACTION: General notice announcing population estimates.

SUMMARY: This notice announces the voting age population estimates as of July 1, 2018, for each state and the District of Columbia. We are providing this notice in accordance with the 1976 amendment to the Federal Election Campaign Act. In addition, the data have been available online at the Census Bureau's website since December 2018 at: https://www.census.gov/data/tables/time-series/demo/popest/2010s-state-detail.html.

FOR FURTHER INFORMATION CONTACT: Karen Battle, Chief, Population Division, U.S. Census Bureau, Room HQ-6H174, Washington, DC 20233, at 301-763-2071, or at karen.battle@census.gov.

SUPPLEMENTARY INFORMATION: Under the requirements of the 1976 amendment to the Federal Election Campaign Act, Title 52, United States Code, Section 30116(e), I hereby give notice that the estimates of the voting age population for July 1, 2018, for each state and the District of Columbia are as shown in the following table.

Estimates of the Population of Voting Age for Each State and the District of Columbia: July 1, 2018
Area | Population 18 and over
United States | 253,768,092
Alabama | 3,798,031
Alaska | 553,622
Arizona | 5,528,989
Arkansas | 2,310,645
California | 30,567,090
Colorado | 4,430,329
Connecticut | 2,837,472
Delaware | 763,555
District of Columbia | 574,961
Florida | 17,070,244
Georgia | 8,013,724
Hawaii | 1,117,077
Idaho | 1,307,236
Illinois | 9,883,814
Indiana | 5,123,748
Iowa | 2,425,378
Kansas | 2,205,544
Kentucky | 3,459,573
Louisiana | 3,564,062
Maine | 1,088,000
Maryland | 4,702,570
Massachusetts | 5,535,291
Michigan | 7,831,247
Minnesota | 4,308,564
Mississippi | 2,280,389
Missouri | 4,749,622
Montana | 832,871
Nebraska | 1,452,427
Nevada | 2,345,395
New Hampshire | 1,098,288
New Jersey | 6,954,877
New Mexico | 1,613,275
New York | 15,474,107
North Carolina | 8,082,975
North Dakota | 581,379
Ohio | 9,096,117
Oklahoma | 2,986,593
Oregon | 3,317,146
Pennsylvania | 10,158,149
Rhode Island | 852,102
South Carolina | 3,978,182
South Dakota | 664,629
Tennessee | 5,263,790
Texas | 21,303,746
Utah | 2,228,643
Vermont | 510,326
Virginia | 6,647,893
Washington | 5,872,306
West Virginia | 1,441,672
Wisconsin | 4,537,465
Wyoming | 442,962
Source: U.S. Census Bureau, Population Division, Vintage 2018 Population Estimates.

I have certified these estimates for the Federal Election Commission.

Dated: May 30, 2019.
Wilbur Ross,
Secretary, U.S. Department of Commerce.

Editorial note: This document was received for publication by the Office of the Federal Register on October 1, 2019.

[FR Doc. 2019-21663 Filed 10-3-19; 8:45 am]

BILLING CODE 3510-07-P